DEPARTMENT OF THE INTERIOR

Fish and Wildlife Service

Notice of intent To Prepare a Comprehensive Conservation Plan and Environmental Assessment for Tensas River National Wildlife Refuge in Madison, Tensas, and Franklin Parishes, LA

AGENCY: Fish and Wildlife Service, Interior.

ACTION: Notice of intent.

SUMMARY: The Fish and Wildlife Service, Southeast Region, intends to gather information necessary to prepare a comprehensive conservation plan and environmental assessment for Tensas River National Wildlife Refuge, pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandate, and Service policies. In addition to outlining broad management direction on conserving wildlife and their habitats, plans identify wildlife-dependent recreational opportunities available to the public, including opportunities for hunting, fishing, wildlife observation, wildlife photography, and environmental education and interpretation.

The purpose of this notice is to machine the following:

(1) Advise other agencies and the public of our intentions, and

(2), Obtain suggestions and information on the scope of issues to include in the environmental document.

DATES: To ensue consideration, written comments must be received no later than November 7, 2006.

ADDRESSES: Address comments, questions, and requests for more information to Tina Chouinard, Natural Resource Planner, Central Louisiana National Wildlife Refuge Complex, 401 Island Road, Marksville, Louisiana 71351.

SUPPLEMENTARY INFORMATION: Special mailings, newspaper articles, and other media announcements will be used to inform the public and state and local government agencies of meeting dates and opportunities for input throughout the planning process. All comments received from individuals become part of the official public record. Requests for such comments will be handled in accordance with the Freedom of Information Act and the Council on Environmental Quality's NEPA, regulations [40 CFR 15076.6(f)].

Tensas River National Wildlife Refuge lies within a physiographic region known as the Mississippi Alluvial Valley. This valley was, at one time, a 25-million-acfre forested wetland complex that extended along both sides of the Mississippi River from Illinois to Louisiana. More than 90 percent of the original forest has been cleared for agriculture. Congress authorized the establishment of the refuge in June 1980, in an effort to conserve the largest privately owned tract of bottomland hardwoods remaining in the region. It was acquired through a joint effort of the Fish and Wildlife Service and the Army Corps of Engineers to mitigate the loss of fish and wildlife resources associated with six flood control projects under construction, or being planned in that portion of the state.

The refuge, totaling 71,217 acres, is located in the Tensas River Basin in northeast Louisiana, approximately 60 miles east of Monroe, Louisiana, and 25 miles west of Vicksburg, Mississippi. The office/visitor center and maintenance facilities are located on the refuge approximately 12 miles southwest of Tallulah, Louisiana.

FOR FURTHER INFORMATION CONTACT: Tina Chouinard, Natural Resource Planner, Central Louisiana National Wildlife Refuge Complex, telephone: 318/253-4238; fax: 318/253-7139; e-mail: tina_chouinard@fws.gov or mail (write to the Natural Resource Planner at address in ADDRESSES section).

Authority: This notice is published under the authority of the National Wildlife Refuge System Improvement Act of 1997, Public Law 105-57.

Dated: August 9, 2006.
Cynthia K. Dohen,
Acting Regional Director.

[FR Doc. 06-7503 Filed 9-7-06; 8:45 am]

BILLING CODE 4310-55-M